DEPARTMENT OF AGRICULTURE

Forest Service

Cibola National Forest, Mount Taylor Ranger District, NM, Mount Taylor Combined Exploratory Drilling

AGENCY: Forest Service, USDA.

ACTION: Notice of intent to prepare an environmental impact statement.

SUMMARY: The proposed action is to approve two Plans of Operations for exploratory uranium drilling on the Cibola National Forest, Mount Taylor Ranger District. There are two areas identified for exploration; the Bajillos project area is approximately 2,894 acres and is located in T. 12 N, R. 8 W, Sections 6, 7, & 8 and T. 12 N, R. 9 W, Sections 1, 12, & . The Endy project area is approximately 3,740 acres and is located in T. 13 N, R. 7 W, Sections 7 &8, T. 13 N, R. 8 W, Secions 2, 3, 4, 5, 11, & 12 and T. 14 N, R. 8 W, Sections 31 & 32. Both project areas are located north-northeast of Grants in the vicinity of the town of San Mateo. In total, there are up to 279 drill holes that would be drilled over a period not to exceed 6 years from initiation of the project. A total of 21 drill holes are proposed within the Bajillos project area. A total of up to 258 holes are proposed for drilling within the Endy project area. The exploratory drilling in this area would be phased over the course of six years; 51 holes would be drilled during the first phase of exploration. Secondary- and later phase- drilling would consist of in-fill drilling and moving outward into newer areas.

DATES: Comments concerning the scope of the analysis must be received by 45 days after the publication of the NOI. The draft environmental impact statement is expected September 2012 and the final environmental impact statement is expected January 2013.

ADDRESSES: Send written comments to Diane Tafoya, Combined Uranium Exploratory Drilling Team Lead, Cibola National Forest, 2113 Osuna Road, NE., Albuquerque, NM 87113. Comments can also be submitted online at: https://cara.ecosystem-management.org/Public/CommentInput?Project=33948.

FOR FURTHER INFORMATION CONTACT: For further information, mail correspondence to Diane Tafoya, Combined Uranium Exploratory Drilling Team Lead, Cibola National Forest, 2113 Osuna Road NE., Albuquerque, NM 87113 or call (505) 346-3900.

Individuals who use telecommunication devices for the deaf (TDD) may call the Federal Information Relay Service (FIRS) at 1-(800) 877-8339 between 8 a.m. and 8 p.m., Eastern Time, Monday through Friday.

SUPPLEMENTARY INFORMATION:

Purpose and Need for Action

This action is needed to allow the Applicants to exercise their rights under U.S. mining laws. The Applicants have a right to explore their claims as set forth by the General Mining Law of 1872 as amended. These laws provide that the public has a statutory right to conduct prospecting, exploration, and development activities (1872 Mining Law and 1897 Organic Act), provided they are reasonably incident (1955 Multiple Use Mining Act and case law) to mining and comply with other Federal laws.

Proposed Action

The proposed action is to approve two Plans of Operation for uranium exploration drilling on the Mount Taylor Ranger District of the Cibola National Forest. There are two areas identified for exploration; the Bajillos project area and the Endy project area. A total of 21 drill holes are proposed within the Bajillos project area. The drill pads would be 30 by 100 feet in size (average 0.07 acres each) and drilling depths would reach down to 1200 feet. The mud pits constructed within the footprints of the drill pad would measure 4 by 20 feet and be approximately 5 feet deep. An estimated 1.45 acres of ground disturbance would be associated with all drilling activities. Access to all of the drill sites would be along existing roads. Less than 0.1 miles of routine road maintenance would be required in order for the drilling equipment to reach the sites. All of the drilling would occur over the course of 2 months.

Up to 258 holes are proposed for drilling within the Endy project area. The exploratory drilling would be phased over the course of six years; 51 holes would be drilled during the first phase of exploration. Secondary drilling would occur if, or when, further investigation is indicated by the data recovered from earlier drilling. It is possible that not all drill holes which are proposed and analyzed for this project area would be drilled. The drill pads would be 60 by 120 feet (average of 0.17 acres each) and drilling depths would reach down to 3200 feet. The mud pits constructed within the footprint of the drill pad would measure 8 by 10 feet and be approximately 6 feet deep. An estimated 42.64 acres of ground disturbance would be associated with the 258 drill hole locations.

The drill locations will be accessed using existing roads, cross country travel (where feasible) and temporary roads constructed to access drill sites on steep slopes. All temporary roads would be obliterated after use.

Information about the proposal will be posted on the project Web site at http://www.fs.fed.us/nepa/nepa_project_exp.php?project=33948.

Possible Alternatives

1. No Action. 2. Approve the two plans of operations with appropriate mitigation measures, if needed.

Responsible Official

Nancy Rose, Forest Supervisor, Cibola National Forest. 2113 Osuna Road NE., Albuquerque, NM 87113.

Nature of Decision To Be Made

The Forest Supervisor will use the EIS process to develop the necessary information to make an informed decision on whether or not to approve the proposed plans as submitted, or to decide what mitigation and monitoring requirements are needed to protect resources.

Preliminary Issues

One preliminary issue has been identified: Exploration may affect the characteristics of the Mount Taylor Traditional Cultural Property eligible for inclusion on the National Register of Historic Places. Other issues that may arise include legacy health issues, reclamation concerns, and contamination of ground and surface water.

Permits or Licenses Required

The approved Plans of Operations authorizes exploration. Operations must be consistent with Forest Service Conditions of Approval, and other applicable laws and regulations, including New Mexico state permits for exploratory drilling.

Scoping Process

This notice of intent initiates the scoping process, which guides the development of the environmental impact statement. Comments are solicited and are welcome for the 45-day comment period initiating on the publication date of this notice.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: December 2, 2011.
Nancy Rose,
Forest Supervisor.

[FR Doc. 2011-31563 Filed 12-7-11; 8:45 am]

BILLING CODE 3410-11-P